INTERNATIONAL TRADE COMMISSION

Sunshine Act Meeting

Agency Holding the Meeting: United States International Trade Commission.

Time and Date: October 3, 2000 at 11:00 a.m.

Place: Room 101, 500 E Street S.W., Washington, DC 20436, Telephone: (202) 205-2000.

Status: Open to the public.

Matters to be Considered:

1. Agenda for future meeting: none.

2. Minutes.

3. Ratification List.

4. Inv. No. TA-201-72 (Extruded Rubber Thread)(Injury Phase)—briefing and vote. (The Commission is currently scheduled to transmit its recommendations to the President on December 4, 2000.)

5. Outstanding action jackets: none.

In accordance with Commission policy, subject matter listed above, not disposed of at the scheduled meeting, may be carried over to the agenda of the following meeting.

Issued: September 22, 2000.
By order of the Commission.
Donna R. Koehnke,
Secretary.

[FR Doc. 00-24909 Filed 9-25-00; 11:45 am]

BILLING CODE 7020-02-P